OFFICE OF PERSONNEL MANAGEMENT

5 CFR Part 792

RIN 3206-A193

Agency Use of Appropriated Funds for Child Care Costs for Lower Income Employees

AGENCY: Office of Personnel Management.

ACTION: Technical amendment.

SUMMARY: This document contains three technical amendments to the final regulations that were originally published in the Federal Register on Tuesday, March 14, 2000. The first technical amendment expands the type of funds that can be used for assisting lower income Federal employees with their costs of child care to include appropriated funds used for expenses in addition to salaries. The second and third amendments extend the legislation through the end of FY 2001. These changes were enacted by Public Law 106-554, sec. 633 of the Treasury and General Government Appropriations Act, 2001, and the effective date is October 1, 2000.

EFFECTIVE DATE: October 1, 2000.

FOR FURTHER INFORMATION CONTACT: Pat Kinney, (202) 606-1313; FAX (202) 606-2091; or e-mail to pfkinney@opm.gov.

SUPPLEMENTARY INFORMATION: Public Law 106-58, sec. 643, enacted on September 29, 1999, allows Executive agencies to assist their lower income Federal employees with the costs of child care. Agencies could use “appropriated funds (otherwise available to such agency for salaries) to provide child care, in a Federal or leased facility, or through contract, for civilian employees of such agency.” The Office of Personnel Management issued regulations to implement the new authority, which were published in the Federal Register on March 14, 2000. The law was effective until September 30, 2000.

The current legislation expands the authority by authorizing the use of appropriated funds for expenses, in addition to appropriated funds available for salaries. It also extends the legislation until September 30, 2001.

Regulatory Flexibility Act

I certify that these changes will not have a significant economic impact on a substantial number of small entities because the regulations pertain only to Federal employees and agencies.

Lists of Subjects in 5 CFR Part 792

Alcohol abuse, Alcoholism, Day care, Drug abuse, Government employees.

Office of Personnel Management.
Janice R. Lachance,
Director.

Accordingly, OPM is amending 5 CFR part 792 as follows:

PART 792—AGENCY USE OF APPROPRIATED FUNDS FOR CHILD CARE COSTS FOR LOWER INCOME EMPLOYEES

1. The authority citation for part 792 continues to read as follows:

Authority: Sec. 201 of Pub. L. 91-616, 84 Stat. 1849, as amended and transferred to sec. 520 of the Public Health Services Act by sec. 2(b)(13) of Pub. L. 98-24 (42 U.S.C. 290dd-1) and sec. 413 of Pub. L. 92-255, 86 Stat. 84, as amended and transferred to sec. 525 of the Public Health Services Act by sec. 2(b)(16)(A) of Pub. L. 98-24 (42 U.S.C. 290ee-1); Sec. 643, Pub. L. 106-58, 113 Stat. 477; Sec. 633, Pub. L. 106-554.

2. Amend § 792.207 by revising it to read as follows:

§ 792.207 Which agency funds can be used for the purpose of this law?

You are permitted to use appropriated funds, including revolving funds, that are otherwise available to the agency for salaries and expenses.

3. Amend § 792.230 by revising it to read as follows:

§ 792.230 For how long will the tuition assistance be in effect for a Federal employee?

The tuition assistance, in the form of a reduced tuition rate, will be in effect from the time the decision for a particular Federal employee is made and the child is enrolled in the program, until the child is no longer enrolled, but not later than September 30, 2001. These funds are not available to pay for services performed after September 30, 2001.

4. Amend § 792.234 by revising it to read as follows:

§ 792.234 For how long is the law effective?

The law is effective for one year, ending September 30, 2001.

[FR Doc. 01-173 Filed 1-3-01; 8:45 am]

BILLING CODE 6325-01-P